DEPARTMENT OF THE INTERIOR

Bureau of Land Management

[LLCON05000L71220000EU0000LVTFC180290018XCOC-78815]

Notice of Realty Action: Segregation of Public Land for Proposed Sale in Rio Blanco and Garfield Counties, CO

AGENCY: Bureau of Land Management, Interior.

ACTION: Notice of realty action.

SUMMARY: The Bureau of Land Management (BLM) is proposing to segregate six parcels of public land, totaling 400 acres, from all forms of appropriation under the public land laws, including the mining laws. During the segregation period, the BLM will evaluate the parcels to determine if they are suitable to offer for sale.

DATES: The segregation will terminate upon issuance of a patent, publication of the segregation's termination in the Federal Register, or on January 21, 2022, unless extended by the BLM Colorado State Director.

Submit comments concerning the segregation and any part of this notice, by March 6, 2020. The BLM will only accept written comments.

ADDRESSES: Submit written comments to BLM White River Field Office, Field Manager, 220 East Market Street, Meeker, CO 81641. Written comments may also be submitted via email to blm_co_wrfo_sale@blm.gov.

FOR FURTHER INFORMATION CONTACT: Heather Sauls, Planning and Environmental Coordinator, BLM White River Field Office, phone: 970-878-3855, email: hsauls@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The White River Lodge nominated the parcels for the sale. Two of the parcels, which are completely surrounded by private land owned by White River Lodge, would be offered through a direct sale to the lodge. The remaining four parcels would be offered through a modified competitive sale in which bidders are limited to adjacent landowners with legal access, which includes the White River Lodge.

The following described public lands in Rio Blanco and Garfield Counties are segregated immediately upon publication of this notice:

Parcel 1

Sixth Principal Meridian, Colorado

T. 2 N., R. 94 W.,

Sec. 29, NE1/4NE1/4.

The area described contains 40 acres.

Parcel 2

Sixth Principal Meridian, Colorado

T. 3 S., R. 94 W.,

Sec. 22, SE1/4NE1/4;

Sec. 23, S1/2NW1/4 and NE1/4SW1/4.

The areas described aggregate 160 acres.

Parcel A

Sixth Principal Meridian, Colorado

T. 2 N., R. 94 W.,

Sec. 20, NW1/4NE1/4 and NE1/4NW1/4.

The area described contains 80 acres.

Parcel B

Sixth Principal Meridian, Colorado

T. 2 N., R. 94 W.,

Sec. 16, SW1/4SE1/4.

The area described contains 40 acres.

Parcel C

Sixth Principal Meridian, Colorado

T. 2 N., R. 94 W.,

Sec. 15, NE1/4SW1/4.

The area described contains 40 acres.

Parcel D

Sixth Principal Meridian, Colorado

T. 3 S., R. 94 W.,

Sec. 15, SW1/4SE1/4.

The area described contains 40 acres.

The BLM is no longer accepting land-use applications affecting the subject public lands, except applications to amend previously filed right-of-way applications or existing authorizations to increase grant terms in accordance with 43 CFR 2807.15 and 43 CFR 2886.15.

During the segregation period, the BLM will evaluate the parcels for suitability to offer for sale. If the BLM finds that the lands are suitable for sale, it will publish another Notice of Realty Action in the Federal Register announcing its decision to offer the land for sale.

This Notice also initiates an official 2-year notification to grazing use authorization holders that the BLM is considering disposing of the subject lands and that such authorizations may be cancelled in accordance with 43 CFR 4110.4-2(b).

Before including your address, phone number, email address, or other personal identifying information in your comment, you should be aware that your entire Comment—including your personal identifying information—may be made publicly available at any time. While you may ask us in your comment to withhold your personal identifying information from public review, we cannot guarantee that we will be able to do so.

Any adverse comments will be reviewed by the BLM Colorado State Director or other authorized official of the Department of the Interior, who may sustain, vacate, or modify this realty action and issue a final determination. In the absence of timely filed objections, this realty action will become the final determination of the Department of the Interior.

(Authority: 43 CFR 2091.2-1(b)).

Jamie E. Connell,
Colorado State Director.

[FR Doc. 2020-00850 Filed 1-17-20; 8:45 am]

BILLING CODE 4310-JB-P